DEPARTMENT OF COMMERCE

National Oceanic and Atmospheric Administration

[I.D. 052600A]

Marine Mammals; File No. 684-1458

AGENCY: National Marine Fisheries Service (NMFS), National Oceanic and Atmospheric Administration (NOAA), Commerce.

ACTION: Receipt of application for amendment.

SUMMARY: Notice is hereby given that Dr. Donald Siniff, University of Minnesota, Department of Ecology, Evolution and Behavior, 100 Ecology Building, 1987 Upper Buford Circle, St. Paul, MN 55108 has requested an amendment to scientific research Permit No. 684-1458.

DATES: Written or telefaxed comments must be received on or before July 7, 2000.

ADDRESSES: The amendment request and related documents are available for review upon written request or by appointment in the following office(s):

Permits and Documentation Division, Office of Protected Resources, NMFS, 1315 East-West Highway, Room 13705, Silver Spring, MD 20910 (301/713-2289); and

Southwest Region, NMFS, 501 West Ocean Blvd., Suite 4200, Long Beach, CA 90802 (562/980-4001).

Written comments or requests for a public hearing on this request should be submitted to the Chief, Permits and Documentation Division, F/PR1, Office of Protected Resources, NMFS, 1315 East-West Highway, Room 13130, Silver Spring, MD 20910. Those individuals requesting a hearing should set forth the specific reasons why a hearing on this particular amendment request would be appropriate.

Comments may also be submitted by facsimile at (301) 713-0376, provided the facsimile is confirmed by hard copy submitted by mail and postmarked no later than the closing date of the comment period. Please note that comments will not be accepted by e-mail or other electronic media.

FOR FURTHER INFORMATION CONTACT: Simona Roberts or Ruth Johnson, 301/713-2289.

SUPPLEMENTARY INFORMATION: The subject amendment to Permit No. 684-1458, issued on August 17, 1998 (63 FR 43914) is requested under the authority of the Marine Mammal Protection Act of 1972, as amended (16 U.S.C. 1361 et seq.) and the Regulations Governing the Taking and Importing of Marine Mammals (50 CFR part 216).

Permit No. 684-1458 authorizes the permit holder to capture, tag, sample, and lavage Weddell seals (Leptonychotes weddellii) of all age and sex classes on McMurdo Sound in the Antarctic. The permit holder requests authorization to place VHF transmitters on adult female Weddell seals, and apply a series of instrument packages that contain: a 3MPDT logger (3-dimensional, magnetic data recorder), DSL (digital still camera), DU (ultrasonic depth sounder), PD2GT (speed, acceleration, depth, and temperature recorder) and ECG (electrocardiogram monitor) to male and female Weddell seals of all age classes. For attachment of the instrument package, the permit holder requests authorization to anesthetize seals with the drug Sevoflurane. The permit holder also requests an increase in the number of adult female Weddell seals captured (400 to 500), the number of adult male Weddell seals fitted with VHF transmitters (30 to 100) and the number of Weddell seal pups fitted with satellite-linked radio transmitters and the PD2GT and ECG instruments (20 to 50).

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 31, 2000.
Ann Terbush,
Chief, Permits and Documentation Division, Office of Protected Resources, National Marine Fisheries Service.

[FR Doc. 00-14363 Filed 6-6-00; 8:45 am]

BILLING CODE 3510-22-F